DEPARTMENT OF COMMERCE

National Oceanic and Atmospheric Administration

[I.D. 091900C]

Pacific Fishery Management Council; Public Meeting

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold public meetings.

DATES: The CPSMT will meet Tuesday, October 17, 2000 from 10 a.m. to 5 p.m. and Wednesday, October 18, 2000, from 8 a.m. until 12 p.m. The CPSAS will meet Wednesday, October 18, 2000 at 1 p.m. and may go into the evening until business for the day is completed.

ADDRESSES:

Both the CPSMT and CPSAS meetings will be held at NMFS Southwest Region Office, 501 West Ocean Blvd, Suite 4200, Long Beach, CA.

Council address: Pacific Fishery Management Council, 2130 SW Fifth Avenue, Suite 224, Portland, OR 97201.

FOR FURTHER INFORMATION CONTACT: Mr. Dan Waldeck, Pacific Fishery Management Council; (503) 326-6352.

SUPPLEMENTARY INFORMATION: There are several items scheduled for the CPSMT agenda, these include: Pacific sardine stock assessment and harvest guideline; capacity goal and other issues related to the limited entry fishery; and several issues related to the sardine fishery, e.g., seasonal distribution of the Pacific sardine stock along the West Coast, sub-allocation options proposed by the Oregon Department of Fish and Wildlife, and the effects of delaying the start of the sardine fishery. The primary purpose of the CPSAS meeting is to review documents and analyses developed by the CPSMT and to discuss other pertinent business.

Although non-emergency issues not contained in the meeting agenda may come before the CPSMT and/or the CPSAS for discussion, those issues may not be the subject of formal CPSMT or CPSAS action during this meetings. CPSMT and/or CPSAS action will be restricted to those issues specifically listed in this notice and any issues arising after publication of this notice that require emergency action under section 305(c) of the Magnuson-Stevens Fishery Conservation and Management Act, provided the public has been notified of the CPSMT's and/or CPSAS's intent to take final action to address the emergency.

Special Accommodations

These meetings are physically accessible to people with disabilities. Requests for sign language interpretation or other auxiliary aids should be directed to Ms. Carolyn Porter at (503) 326-6352 at least 5 days prior to the meeting date.

Dated: September 20, 2000.
Richard W. Surdi,
Acting Director, Office of Sustainable Fisheries, National Marine Fisheries Service.

[FR Doc. 00-24586 Filed 9-22-00; 8:45am]

BILLING CODE 3510-22-S